COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) and service(s) to the Procurement List that will be furnished by nonprofit agencies employing persons who are blind or have other severe disabilities, and deletes product(s) from the Procurement List previously furnished by such agencies.

DATES: Date added to and deleted from the Procurement List: August 20, 2023.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 2/3/2023 and 5/12/2023, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s):

7195-00-NIB-2442—Seat Cushion, Ergonomic, Memory Foam, Coccyx Support, Black

750056001N—Power Strip Holder, Clamp-On, Black

750056501N—Monitor Stand, Wireless and USB Charging, 21.5″ Wide, Black

750056301N—Monitor Stand, Height Adjustable, Storage Drawer, Black

620003501N—Desk Lamp, LED, Wireless and USB Charging, Black

750055901N—Keyboard Tray, Clamp-On, Height Adjustable, Black

750056401N—Laptop and Tablet Riser, Ergonomic, Height and Angle Adjustable, Aluminum

Mandatory Source of Supply: Chicago Lighthouse Industries, Chicago, IL

Mandatory For: Total Government Requirement

Contracting Activity: FEDERAL ACQUISITION SERVICE, GSA/FAS FURNITURE SYSTEMS MGT DIV

Distribution: A-List

Service(s)

Service Type: Document Destruction Service

Mandatory for: US Air Force, 82nd Medical Group, Sheppard AFB, TX

Designated Source of Supply: Work Services Corporation, Wichita Falls, TX

Contracting Activity: DEPT OF THE AIR FORCE, FA3020 82 CONS LGC

Deletions

On 6/16/2023, the Committee for Purchase From People Who Are Blind or Severely Disabled published notice of proposed deletions from the Procurement List. This notice is published pursuant to 41 U.S.C. 8503(a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

7510-01-664-8783—DAYMAX SYSTEM, 2022 Calendar Pad, Type I

7510-01-664-9513—DAYMAX System, 2022, Calendar Pad, Type II

Designated Source of Supply: Anthony Wayne Rehabilitation Ctr for Handicapped and Blind, Inc., Fort Wayne, IN

Contracting Activity: GSA/FAS ADMIN SVCS ACQUISITION BR(2, NEW YORK, NY

NSN(s)—Product Name(s):

8415-01-518-4594—Jacket, Physical Training Uniform, USAF, Blue, X-Small/Short

8415-01-518-4599—Jacket, Physical Training Uniform, USAF, Blue, X-Small/Regular

8415-01-518-4600—Jacket, Physical Training Uniform, USAF, Blue, X-Small/Long

8415-01-518-4601—Jacket, Physical Training Uniform, USAF, Blue, Small/Short

8415-01-518-4603—Jacket, Physical Training Uniform, USAF, Blue, Small/Regular

8415-01-518-4604—Jacket, Physical Training Uniform, USAF, Blue, Small/Long

8415-01-518-4605—Jacket, Physical Training Uniform, USAF, Blue, Medium/Short

8415-01-518-4607—Jacket, Physical Training Uniform, USAF, Blue, Medium/Regular

8415-01-518-4608—Jacket, Physical Training Uniform, USAF, Blue, Medium/Long

8415-01-518-4609—Jacket, Physical Training Uniform, USAF, Blue, Large/Short

8415-01-518-4610—Jacket, Physical Training Uniform, USAF, Blue, Large/Regular

8415-01-518-4611—Jacket, Physical Training Uniform, USAF, Blue, Large/Long

8415-01-518-4612—Jacket, Physical Training Uniform, USAF, Blue, X-Large/Short

8415-01-518-4613—Jacket, Physical Training Uniform, USAF, Blue, X-Large/Regular

8415-01-518-4615—Jacket, Physical Training Uniform, USAF, Blue, X-Large/Long

8415-01-518-4616—Jacket, Physical Training Uniform, USAF, Blue, XX-Large/Short

8415-01-518-4617—Jacket, Physical Training Uniform, USAF, Blue, XX-Large/Regular

8415-01-518-4618—Jacket, Physical Training Uniform, USAF, Blue, XX-Large/Long

8415-01-518-4619—Jacket, Physical Training Uniform, USAF, Blue, XXX-Large/Short

8415-01-518-4620—Jacket, Physical Training Uniform, USAF, Blue, XXX-Large/Regular

8415-01-518-4621—Jacket, Physical Training Uniform, USAF, Blue, XXX-Large/Long

8415-01-518-4622—Jacket, Physical Training Uniform, USAF, Blue, XXXX-Large/Short

8415-01-518-4623—Jacket, Physical Training Uniform, USAF, Blue, XXXX-Large/Regular

8415-01-518-4647—Jacket, Physical Training Uniform, USAF, Blue, XXXX-Large/Long

8415-01-521-0841—Jacket, Physical Training Uniform, USAF, Blue, X Small/X Short

8415-01-521-0844—Jacket, Physical Training Uniform, USAF, Blue, Small/X Short

8415-01-521-0845—Jacket, Physical Training Uniform, USAF, Blue, Medium/X Short

8415-01-521-0846—Jacket, Physical Training Uniform, USAF, Blue, Large/X Short

8415-01-521-0847—Jacket, Physical Training Uniform, USAF, Blue, X Large/X Short

8415-01-521-0848—Jacket, Physical Training Uniform, USAF, Blue, XX Large/X Short

8415-01-521-0849—Jacket, Physical Training Uniform, USAF, Blue, XXX Large/X Short

8415-01-521-0851—Jacket, Physical Training Uniform, USAF, Blue, XXXX Large/X Short

Designated Source of Supply: Blind Industries & Services of Maryland, Baltimore, MD

Designated Source of Supply: Winston-Salem Industries for the Blind, Inc, Winston-Salem, NC

Contracting Activity: DLA TROOP SUPPORT, PHILADELPHIA, PA

Michael R. Jurkowski,
Acting Director, Business Operations.

[FR Doc. 2023-15503 Filed 7-20-23; 8:45 am]

BILLING CODE 6353-01-P